DEPARTMENT OF THE INTERIOR

National Park Service

[NPS-WASO-NAGPRA-NPS0038223; PPWOCRADN0-PCU00RP14.R50000]

Notice of Inventory Completion: Louisiana State University, Museum of Natural Science, Baton Rouge, LA

AGENCY: National Park Service, Interior.

ACTION: Notice.

SUMMARY: In accordance with the Native American Graves Protection and Repatriation Act (NAGPRA), the Louisiana State University, Museum of Natural Science (LSUMNS) has completed an inventory of human remains and has determined that there is a cultural affiliation between the human remains and Indian Tribes or Native Hawaiian organizations in this notice.

DATES: Repatriation of the human remains in this notice may occur on or after August 12, 2024.

ADDRESSES: Dr. Irene Martí Gil, LSU Museum of Natural Science, 119 Foster Hall, LSU, Baton Rouge, LA 70803, telephone (225) 578-2855, email imart23@lsu.edu.

SUPPLEMENTARY INFORMATION: This notice is published as part of the National Park Service's administrative responsibilities under NAGPRA. The determinations in this notice are the sole responsibility of LSUMNS, and additional information on the determinations in this notice, including the results of consultation, can be found in the inventory or related records. The National Park Service is not responsible for the determinations in this notice.

Abstract of Information Available

Based on the information available, human remains representing, at least, 19 individuals have been reasonably identified. No known individuals were identified. No associated funerary objects are present.

From the Toups Place site (16LF001, located on the east bank of West Fork Bayou L'Ours in Lafourche Parish, LA), human remains representing, at a minimum, one adult individual, were removed as part of a surface collection by Tommy Ryan in 1984. The burial could be Troyville, Coles Creek, or Plaquemine/Mississippian.

From the South Point site (16OR12, located on the south shore of Lake Pontchartrain in Orleans Parish, LA) human remains representing, at a minimum, two adult individuals, were removed in two episodes of surface collection by Sherwood Gagliano, probably between 1963 and 1965. The burials could be Tchefuncte, Troyville, Coles Creek, or Mississippian.

From the Bayou Biloxi site (16SB53, located at the junction of Bayou Biloxi and Southwest Branch in St. Bernard Parish, LA), human remains representing, at a minimum, one individual, were removed by Robert Treadwell during a surface collection on August 23, 1952, in the context of McIntire's Prehistoric Indian Settlements of the Changing Mississippi River Delta survey project. The burial is considered Coles Creek-Plaquemine, and Mississippian.

From the Bayou La Loutre site (16SB68, located west of Bayou La Loutre in St. Bernard Parish, LA), human remains representing, at a minimum, two adult individuals, were removed by Robert Neuman during a surface collection in 1976. The burial is considered Coles Creek or Mississippian.

From the 16SB103 site (this site, northwest of “Sundown Island,” in St. Bernard Parish, LA, was never given a name), human remains representing, at a minimum, three adult individuals, were removed by Eric Lacefield in 1980 and by Robert Neuman, Phillip “Duke” Rivet, Kathleen Byrd, and Eric Lacefield in 1984 in surface collections. The burials are considered Coles Creek or Mississippian.

From the 16SC00 site (this site, located in the Lake Salvador area, in St. Charles Parish, LA, was never given a name), human remains representing, at a minimum, two individuals were removed by Forest Travirca in the 1970s. Mr. Travirca donated the materials from these surface collections to the LSUMNS in 1993. The individuals included one adult and one subadult, possibly a teenager. The burials are considered “Prehistoric Unknown” and Plaquemine/Mississippian.

From the Bois Chactas site (16SC4, located on the northwestern shore of Lake Salvador, in St. Bernard Parish, LA) human remains representing, at a minimum, three individuals, were removed by Robert Neuman during a surface collection in 1969. The collection included two adults and one subadult. The burials are considered Coles Creek, Plaquemine, and/or Mississippian.

From the Chaudiere Casse site (16SC8, located on the southeastern side of Lake Salvador in St. Charles Parish, LA), human remains representing, at a minimum, one adult individual, were removed by Forest Travirca during a surface collection in the 1970s. Mr. Travirca donated his collection from the site to the LSUMNS in 1994. The burials are considered Coles Creek, Plaquemine, and/or Mississippian.

From the Bayou Trepagnier site (16SC10, located on the west bank of Bayou Trepagnier in St. Charles Parish, LA), human remains, representing at a minimum, one individual, were removed by Sherwood Gagliano and Roger Saucier during a surface collection in 1951. The burials are considered Tchefuncte, Marksville, and possibly Mississippian.

From the Bayou Lacombe site (16ST30, located on the east bank of Bayou Lacombe in St. Tammany Parish, LA), human remains, representing, at a minimum, one adult individual, were removed in two surface collection episodes: the first in 1968, probably by Roger Saucier; the second by Phillip Rivet in 1974. The burials are considered Tchefuncte, Marksville, or Mississippian.

From the Somerset Mound (16TE7, also LMS 24-L-2, located on a natural levee of the Mississippi River in Tensas Parish, LA), human remains representing, at a minimum, two adult individuals, were removed by Robert Neuman, George Percy, and Fred (?) Smith in 1969 during a surface collection. The burials are considered Plaquemine or Late Mississippian.

The prehistoric material, including Tchefuncte, Troyville, Coles Creek, Plaquemine, and “unknown,” removed from the sites above is culturally affiliated with the Chitimacha, while the Mississippian material is most likely culturally affiliated with the Choctaw.

Cultural Affiliation

Based on the information available and the results of consultation, cultural affiliation is reasonably identified by the geographical location or acquisition history of the human remains described in this notice.

Determinations

The LSUMNS has determined that:

• The human remains described in this notice represent the physical remains of 19 individuals of Native American ancestry.

• There is a reasonable connection between the human remains described in this notice and the Chitimacha Tribe of Louisiana; Jena Band of Choctaw Indians; Mississippi Band of Choctaw Indians; and The Choctaw Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after August 12, 2024. If competing requests for repatriation are received, LSUMNS must determine the most appropriate requestor prior to repatriation. Requests for joint repatriation of the human remains are considered a single request and not competing requests. The LSUMNS is responsible for sending a copy of this notice to the Indian Tribes and Native Hawaiian organizations identified in this notice.

Authority: Native American Graves Protection and Repatriation Act, 25 U.S.C. 3003, and the implementing regulations, 43 CFR 10.10.

Dated: June 26, 2024.
Melanie O'Brien,
Manager, National NAGPRA Program.

[FR Doc. 2024-15201 Filed 7-10-24; 8:45 am]

BILLING CODE 4312-52-P